DEPARTMENT OF TRANSPORTATION

Office of the Secretary

[Docket No. DOT-OST-2016-0204]

Exploring Industry Practices on Distribution and Display of Airline Fare, Schedule, and Availability Information

AGENCY: Office of the Secretary, Department of Transportation.

ACTION: Notice of withdrawal of request for information.

SUMMARY: The Department of Transportation (“Department” or “DOT”) is withdrawing a Request for Information (“RFI”) that solicited information on whether airline restrictions on the distribution or display of airline flight information harm consumers and constitute an unfair and deceptive business practice and/or an unfair method of competition.

DATES: December 31, 2020.

FOR FURTHER INFORMATION CONTACT: Kimberly Graber and Blane A. Workie, Office of Aviation Consumer Protection, U.S. Department of Transportation, 1200 New Jersey Ave. SE, Washington, DC 20590, 202-366-9342, 202-366-7152 (fax), kimberly.graber@dot.gov or blane.workie@dot.gov.

Electronic Access: You can view and download related documents and public comments by going to the website http://www.regulations.gov. Enter the docket number DOT-OST-2016-0204 in the search field.

SUPPLEMENTARY INFORMATION: The Department issued the RFI on October 31, 2016 in response to concerns raised by certain online travel agencies (OTAs), metasearch entities that operate flight search tools, and other stakeholders involved in the distribution of flight information and sale of air transportation, as well as consumer advocates and some members of Congress regarding certain practices related to the distribution and display of airline fare, schedule, and availability information.¹ The Department has also heard from airlines and other members of Congress opposing Departmental action in this area. On December 22, 2016, DOT extended the response date of the RFI to March 31, 2017.² On March 10, 2017, the Department suspended the response period while it evaluated next steps.³

¹ 81 FR 75481.

² 81 FR 94021.

³ 82 FR 13375.

The issue of airline restrictions on the distribution or display of airline flight information on third-party travel websites is a complex issue with far-reaching implications for consumers, airlines, ticket agents, and the various participants in the distribution chain. The Department recognizes that transparency is not only good for consumers but also good for competition in the airline industry. However, the Department also believes that airlines should be able to choose how and where they sell their products so long as they do not engage in unfair or deceptive practices. These two goals are not mutually exclusive. The Department does not consider its involvement at this time to be necessary to prevent unfair, deceptive, or anticompetitive practices. As such, the Department has decided to withdraw the RFI.

Issued in Washington, DC, under authority delegated in 49 CFR 1.27(n).
Christina G. Aizcorbe,
Deputy General Counsel.

[FR Doc. 2020-28927 Filed 12-30-20; 8:45 am]

BILLING CODE P